CENTRAL INTELLIGENCE AGENCY

Privacy Act of 1974; System of Records

AGENCY: Central Intelligence Agency.

ACTION: Notice of Modified Systems of Records and Rescindment of Systems of Records Notices.

SUMMARY: Notice is hereby given that the Central Intelligence Agency (“CIA” or “the Agency”) is submitting to the Federal Register a total of forty two (42) System of Records Notices (SORNs), and nineteen (19) General Routine Uses. Of the total package, CIA has significantly modified seven (7) existing SORNs, rescinded five (5) SORNs, created two (2) new SORNs. With respect to CIA's routine uses, the Agency modified one (1) General Routine Use, and created five (5) new General Routine Uses. (CIA-33) is not reissued and remains in effect as published on July 22, 2005. The remaining SORNs and General Routine Uses contain updates with respect to organizational changes at CIA, as well as new requirements set by OMB.

DATES: This action is effective November 28, 2022, subject to a 30-day period in which to comment on the routine uses. Please submit any comments by December 28, 2022.

ADDRESSES: Comments may be submitted by the following methods: By mail to Kristi L. Scott, Privacy and Civil Liberties Officer, Central Intelligence Agency, Washington, DC 20505, by telephone at (571) 280-2700, or by email to FedRegComments@ucia.gov. Please include “NOTICE OF ROUTINE USES AND NEW AND MODIFIED CIA SORNS” in the subject line of the message.

FOR FURTHER INFORMATION CONTACT: Kristi L. Scott, Privacy and Civil Liberties Officer, Central Intelligence Agency, Washington, DC 20505, (571) 280-2700.

SUPPLEMENTARY INFORMATION: CIA's Office of Privacy and Civil Liberties (OPCL) conducted an omnibus review of all Agency SORNs. OPCL determined that CIA's SORNs and General Routine Uses (RUs) could be enhanced in accordance with OMB's updated guidance outlined in A-108. Rather than issuing piecemeal revisions, OPCL is hereby republishing the updated notices for all of its SORNs and corresponding RUs in a consolidated publication. By issuing a consolidated publication of all of its SORNs, OPCL intends to ease the administrative burden of the public having to search through multiple Federal Register volumes.

As such, CIA is publishing a total of forty two (42) SORNs in this volume. Of this total, CIA has modified seven (7) existing SORNs; rescinded four (4) SORNs; and created two (2) new SORNs. CIA is also republishing a total of nineteen (19) General RUs that are applicable to all CIA SORNs. CIA also modified one (1) General RU and created five (5) new General Routine Uses to conform to OMB guidance.

New SORNs

The new CIA SORNs are to account for the Agency's Environmental Safety Records (CIA-42) and CIA's Insider Threat Program (CIA-43). As part of operating its property, CIA maintains records that document facility safety requirements, such as repairs to property, building, and maintenance requests. With respect to CIA's Insider Threat Program, CIA is publishing this new SORN to reflect changes to Executive Orders, policies, and practices, to deter insider threat activities, and educate the CIA workforce on insider threat matters.

Modified SORNs

The modified SORNs reflect the organizational changes of CIA's directorates, including updates to authorities, purposes, categories of records, categories of individuals, and record controls. CIA modified (CIA-10), Parking Records, to include reasonable accommodations and business analytics to improve parking lot availability. CIA updated (CIA-13), Component Human Resource Records, to update new categories of individuals in order to improve efficiencies for onboarding prospective CIA employees. CIA updated (CIA-16), Employee Clinical and Psychiatric Records, to more accurately describe modernization efforts at the Agency. CIA updated (CIA-17), Applicant Clinical and Psychiatric Records, to include additional categories of individuals covered and records contained in the system of records to include individuals eligible to participate in the CIA's medical program. CIA updated (CIA-18), Psychological Testing Records, to more accurately describe the categories of individuals and categories of records maintained in the system of records. CIA updated (CIA-19), Agency Human Resource Records, to more accurately describe official personnel files of former and current CIA staff. CIA updated (CIA-26), Office of General Counsel Records, to reflect business modernization efforts to work on legal documents.

The modified SORNs have undergone non-substantive modifications to reflect new Agency titles, to note different internal record locations, and to cite to new authorities. CIA has not made any modifications to (CIA-32) Community Management Records.

Rescinded SORNs

CIA has rescinded four (4) SORNs that are no longer necessary due to changes in CIA's organizational structure or the decommission of certain systems of records. More specifically, (CIA-11), Accountable Property Records, was established to enable authorized personnel to document accountability for CIA nonexpendable property and to track, inventory, audit, and report on accountable property. The records are now maintained and retrieved by a serial number of the accountable property item or by location of such accountable property, instead of by name or other personal identifier.

(CIA-20), Official Personnel Files, was established to enable authorized human resources personnel to administer routine personnel transactions including: personnel assignments, performance evaluations, promotions, adverse actions, counseling, retirement determinations and qualifications, separations, medical or insurance claims, employment verification, and statistical reports. Although the records in this system are still managed by the CIA's Office of Personnel Resources, the records are now maintained in the Privacy Act system covered by (CIA-19), Agency Human Resources Records. Due to the CIA's unique personnel authorities, Official Personnel Files of current and former agency employees are maintained and located on CIA premises. However, duplicate copies are also maintained separately by the Office of Personnel Management (OPM) for the administration of Federal employee benefit programs and fall within the scope of OPM/GOVT-1, General Personnel Records.

(CIA-23), Intelligence Community Security Clearance and Access Approval Repository, was established to enable authorized personnel to verify individual security clearances or security access approvals throughout the Intelligence Community, in order to appropriately authorize and control access to classified and compartmented information. This database now operates under the authorities and direction of the Office of the Director of National Intelligence (ODNI) and is covered by (ODNI-12), Intelligence Community Security Clearance and Access Approval Repository.

Finally, (CIA-33), National Intelligence Council Records, was established to enable authorized personnel to provide classified and unclassified information within the CIA and to appropriate Intelligence Community elements and U.S. Government officials for the conduct of authorized activities in support intelligence support of policymakers and other senior intelligence consumers. This database now operates under the authorities of the Office of the Director of National Intelligence (ODNI) and is covered by ODNI-15, Mission Outreach and Collaboration Records.

The SORN citations designated to the rescinded SORNs will be reserved in the Agency's full republication, below, for ease of reference.

Statement of General Routine Uses

The Agency significantly modified one (1) General Routine Use, and added five (5) new General Routine Uses to its “Statement of General Routine Uses,” in order to clarify and increase the public's knowledge of the circumstances in which the Agency may disclose, as a routine use, records from Privacy Act systems of records and to enhance the Agency's ability to share information essential to the conduct of its national security mission.

The Agency proposes renumbering General Routine Use 14 as General Routine Use 19, and: (1) requiring the disclosure under this routine use be approved by the Director of the CIA, or designee; (2) requiring the concurrence of the Privacy and Civil Liberties Officer; and (3) requiring a written assessment that the anticipated benefits outweigh the potential risks resulting from dissemination and whether the receiving entities will be subject to further restrictions on the use and dissemination of the record.

Additionally, CIA proposes adding new General Routine Uses 14 and 15 to ensure that the Agency can lawfully disclose records when reasonably necessary to identify, assess, and respond to breaches. The Agency proposes adding General Routine Use 16 to authorize the CIA to disclose records when required to elicit information or cooperation from the recipient of the information when CIA performs its authorized activities. The Agency proposes adding Routine Use 17 to authorize responsible CIA personnel to disclosure records when necessary to conduct or report the progress and/or results of an investigation or inquiry into claims of discrimination or harassment brought pursuant to either federal employment laws or internal Agency regulations. Finally, the Agency proposes adding General Routine Use 18 to authorize CIA to disclose ODNI or ODNI-related records to ODNI when necessary to perform functions or services for which CIA has been engaged by ODNI.

The remaining General Routine Uses underwent minor updates to reduce redundant language and better articulate the recipient(s) of the records, as well as the purpose(s) for which the CIA discloses the records. Additionally, many of the CIA SORNs retain their Privacy Act system of records specific routine uses limited to the disclosures of records maintained in the corresponding Privacy Act system of records, as published in the SORNs below. The Agency is providing an opportunity for interested persons to submit comments on the Agency's General Routine Uses, as well as the Privacy Act system of records-specific routine uses. Unless CIA determines that, based on the submitted comments, substantial modifications are required, the routine uses will take effect 30 days after publication.

Nothing in the new or modified SORNs, or new or modified General Routine Uses, changes the Central Intelligence Agency's authorities regarding the collection and maintenance of information about citizens and lawful permanent residents of the United States, nor do the changes impact any individual's rights to access or to amend their records pursuant to the Privacy Act.

In accordance with 5 U.S.C. 552a(r), the Agency has provided a report to OMB and Congress on the new, modified, and rescinded system of records.

Dated: November 10, 2022.
Kristi L. Scott,
Privacy and Civil Liberties Officer, Central Intelligence Agency.

Statement of General Routine Uses for the Central Intelligence Agency

The following routine uses apply to, and are incorporated by reference into, each system of records maintained by the CIA:

1. Disclosure of a record indicating or relating to a violation or potential violation of law, whether civil, criminal or regulatory in nature, and whether arising by general statute or particular program pursuant thereto, to the appropriate agency whether federal, state, local or foreign, charged with the responsibility of investigating or prosecuting such violation, charged with the responsibility to take appropriate administrative action, or charged with enforcing or implementing the law related to the violation or potential violation.

2. Disclosure to a federal, state or local agency maintaining civil, criminal, relevant enforcement information, or other pertinent information, such as current licenses, to the extent necessary to obtain information relevant to a Central Intelligence Agency decision concerning hiring or retention of an employee, issuance of a security clearance or special access, or performance of the CIA's acquisition functions.

3. Disclosure to a federal, state, or local agency, or other appropriate entities or individuals, in connection with the hiring or retention of an employee, the issuance of a security clearance or special access, the reporting or an investigation of an employee, the letting of a contract, or the issuance of a license, grant or other benefit, to the extent that the information is relevant and necessary to the entity's decision on the matter.

4. Disclosure in the course of presenting information or evidence to a court, magistrate, special master, administrative law judge, or administrative board or panel, including disclosures made pursuant to statutes or regulations governing the conduct of such proceedings.

5. Disclosure to the Office of Management and Budget (OMB) in connection with the review of private relief legislation, as set forth in OMB Circular No. A-19, or its successor, at any stage of the legislative coordination and clearance process.

6. Disclosure to the National Archives and Records Administration (NARA) in records management inspections conducted under the authority of 44 U.S.C. 2904 and 2906.

7. Disclosure to a federal, state, or local agency, other appropriate entities or individuals, or, through established liaison channels, to select foreign governments, provided such disclosure is compatible with the purpose for which the record was collected and is undertaken to enable the Central Intelligence Agency to carry out its intelligence mission in support of U.S. national security objectives under authorizing laws, statutes, policies, and regulations or any successor order, national security directives applicable to the Agency and implementing procedures approved by the Attorney General promulgated pursuant to such Orders and directives, as well as statutes, Executive orders and directives of general applicability. This routine is not intended to supplant the other routine uses published by the Central Intelligence Agency.

8. Disclosure to a Member of Congress or Congressional staffer acting upon the Member's behalf in response to an inquiry from that Member or staffer made at the written request of the constituent who is the subject of the record.

9. Disclosure to the public or to the media for release to the public, to enable the CIA to respond to charges of illegal or improper activity, professional misconduct, or incompetence when such allegations have become publicly known, and the General Counsel in consultation with the Privacy and Civil Liberties Officer, determines that such disclosures are necessary to preserve public confidence in the Agency and the integrity of its processes, or to demonstrate the accountability of the Agency and its employees, and such disclosures do not clearly constitute an unwarranted invasion of personal privacy.

10. Disclosure to any Federal agency when information obtained from that agency is used in compiling the record, and the record is relevant to the official responsibilities of that agency.

11. Disclosure to representatives of the Department of Justice or of any other entity responsible for representing the interests of the Central Intelligence Agency in connection with judicial, administrative, or other proceedings. Records may also be disclosed to representatives of the Department of Justice and other U.S. Government entities designated by the CIA to represent CIA interests, to the extent necessary to obtain advice on any matter.

12. Disclosure to individual Members or staff of the Senate Select Committee on Intelligence and the House Permanent Select Committee on Intelligence in connection with the exercise of the Committees' intelligence oversight and legislative functions, when such limited disclosures are necessary to a lawful activity of the United States, and the CIA General Counsel has determined that such disclosures are otherwise lawful.

13. Disclosure to the President's Intelligence Advisory Board, the Intelligence Oversight Board, any successor organizations, and other intelligence or independent oversight entities established by the President or Congress, when the Director of the Central Intelligence Agency determines that such disclosures will assist these entities in the performance of their oversight functions.

14. Disclosure to appropriate Federal agencies, entities, and individuals when the CIA: (1) suspects or has confirmed that there has been a breach of a Privacy Act system of records; (2) has determined that as a result of the suspected or confirmed breach there is a risk of harm to individuals, the CIA (including its information systems, programs and operations), the Federal Government, or national security; and (3) the disclosure made to such agencies, entities, and individuals is reasonably necessary to assist in connection with the CIA's efforts to respond to the suspected or confirmed breach or to prevent, minimize, or remedy such harm.

15. Disclosure to appropriate Federal agencies, entities, and individuals when the CIA determines that information from a Privacy Act system of records is reasonably necessary to assist the recipient agency, entity or individual in: (1) responding to a suspected or confirmed breach; or (2) preventing, minimizing, or remedying the risk of harm to individuals, the recipient agency or entity (including its information systems, programs, and operations), the Federal Government, or national security, resulting from a suspected or confirmed breach.

16. Disclosure to any individual or entity that the CIA has reason to believe possesses information regarding a matter within the jurisdiction of the CIA, to the extent deemed to be necessary in order to elicit such information or cooperation from the recipient for use in the performance of an authorized activity.

17. Disclosure to complainants, Responsible Management Officials (RMOs), witnesses, and other individuals to the extent necessary to conduct or report the progress and/or results of an investigation or inquiry into claims of discrimination or harassment brought pursuant to either federal employment laws or internal Agency regulations.

18. Disclosure to the Office of the Director of National Intelligence (ODNI) to the extent that CIA maintains ODNI or ODNI-related records pursuant to a service level agreement, when access to such records is necessary to perform the function or service for which the CIA has been engaged by ODNI.

19. In accordance with the CIA's approved Attorney General Guidelines, disclosure to other appropriate recipients, if such dissemination is necessary to a lawful activity of the United States, including for a foreign intelligence, counterintelligence, and counterterrorism purpose, with approval from the Director of the CIA or designee, concurrence by the Privacy and Civil Liberties Officer, and concurrence by the General Counsel after consultation with the National Security Division of the Department of Justice. Any such disclosure will require a written assessment that the anticipated benefits outweigh the potential risks resulting from dissemination and whether the receiving entities will be subject to further restrictions on the use and dissemination of the record.

Privacy Act Systems of Records Notices

CIA-1

SYSTEM NAME AND NUMBER:

Financial Records (CIA-1).

SECURITY CLASSIFICATION:

The classification of records in this system can range from UNCLASSIFIED to TOP SECRET.

SYSTEM LOCATION:

Central Intelligence Agency, Washington, DC 20505.

SYSTEM MANAGER(S):

Chief Financial Officer, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; the Central Intelligence Agency Retirement Act, 50 U.S.C. 2001 et seq.; Executive Order 12333, as amended, 73 FR 45325.

PURPOSE(S) OF THE SYSTEM:

Records in this system are used by authorized personnel to: ensure process integrity; enable the CIA and the Director of the CIA to carry out their lawful and authorized responsibilities; provide accounting data to track items such as budget and expenses to allow the CIA to acquire goods and services and provide an accounting infrastructure; provide travel services; and develop financial management expertise for fiscal resource utilization and control; and determine whether the commitment and expenditure of CIA funds is authorized, approved, and certified by officials to whom such authority has been delegated.

CATEGORIES OF INDIVIDUALS COVERED BY THE SYSTEM:

Current and former CIA staff and contract employees, and military and civilian personnel detailed to CIA; and personal services independent contractors, industrial contractors, commercial vendors, and consultants to the CIA.

CATEGORIES OF RECORDS IN THE SYSTEM:

This system contains financial accounts and records concerning CIA expenditures. This includes: records relating to financial transactions associated with commercial vendors and contracts; official travel orders, records of funds advanced and transportation furnished, copies of travel claims and accountings, visas, and passports; records concerning claims submitted for financial review, including all financial documentation accumulated in the collection and settlement of amounts due the agency from employees and former employees; records tracking general accounting data, including the status of funds advanced to individuals for official purposes and the procurement of materials and services; records on certifying officers, contracting officers, approving officers, cash custodians and credit card holders, including authorizing letters and signature cards; and records for the processing of personal property claims and related activity.

RECORD SOURCE CATEGORIES:

CIA employees and other individuals requiring parking permits at CIA-controlled facilities.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-2

SYSTEM NAME AND NUMBER:

Training Records (CIA-2).

SECURITY CLASSIFICATION:

The classification of records in this system can range from UNCLASSIFIED to TOP SECRET.

SYSTEM LOCATION:

Central Intelligence Agency, Washington, DC 20505.

SYSTEM MANAGER(S):

Chief, Training and Development Office, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records in this system are used by authorized personnel to: ensure process integrity; enable the CIA and the Director of the CIA to carry out their lawful and authorized responsibilities; manage training activities for individuals assigned to the CIA; process requests for internal and external training for CIA staff and contract employees, personal services independent contractors, industrial contractors, and military and civilian personnel detailed to CIA; update and provide reference for CIA employee training records; and facilitate the process for selecting instructors for the CIA off-campus education program.

CATEGORIES OF INDIVIDUALS COVERED BY THE SYSTEM:

CIA staff and contract employees, other federal employees, CIA personal services independent contractors, and industrial contractors to CIA who have completed internal and CIA-sponsored external training courses or programs; and instructors and potential instructors for the CIA off-campus education program.

CATEGORIES OF RECORDS IN THE SYSTEM:

Transcripts of CIA-sponsored training; student and instructor biographic data; course information; and names of CIA employees responsible for approving CIA-sponsored training.

RECORD SOURCE CATEGORIES:

Individuals covered by this system; students and instructors in CIA internal and CIA-sponsored external training; and training facilities and other educational institutions.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-3

SYSTEM NAME AND NUMBER:

Language Program Records (CIA-3).

SECURITY CLASSIFICATION:

The classification of records in this system can range from UNCLASSIFIED to TOP SECRET.

SYSTEM LOCATION:

Central Intelligence Agency, Washington, DC 20505.

SYSTEM MANAGER(S):

Chief, Training and Development Office, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records in this system are used by authorized personnel to: ensure process integrity; enable the CIA and the Director of the CIA to carry out their lawful and authorized responsibilities; provide information concerning language proficiency of CIA and non-CIA personnel who have taken internal or CIA-sponsored external language training or testing; monitor student performance; and conduct research and compile statistics on a variety of matters related to language learning and testing.

CATEGORIES OF INDIVIDUALS COVERED BY THE SYSTEM:

CIA staff and contract employees, and other individuals who have participated in CIA-managed or CIA-sponsored language training and testing.

CATEGORIES OF RECORDS IN THE SYSTEM:

Biographic data; test scores; training reports from instructors; training requests from sponsoring office(s); and attendance reports.

RECORD SOURCE CATEGORIES:

Students and instructors in CIA internal or CIA-sponsored external language training courses.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to protect against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-4

SYSTEM NAME AND NUMBER:

CIA Declassification Center (CDC) External Liaison Records (CIA-4).

SECURITY CLASSIFICATION:

The classification of records in this system can range from UNCLASSIFIED to SECRET.

SYSTEM LOCATION:

Central Intelligence Agency, Washington, DC 20505.

SYSTEM MANAGER(S):

Chief, External Referral & Liaison Branch/CIA Declassification Center, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 13526, 75 FR 705, or its successor.

PURPOSE(S) OF THE SYSTEM:

Records in this system are used by authorized personnel to: ensure process integrity; enable the CIA and the Director of the CIA to carry out their lawful and authorized responsibilities; and maintain a current list of points of contact at U.S. government agencies on declassification issues, in accordance with E.O. 13526, or its successor.

CATEGORIES OF INDIVIDUALS COVERED BY THE SYSTEM:

Individuals at U.S. government agencies who serve as points of contact for dealings with the CDC External Referral & Liaison Branch.

CATEGORIES OF RECORDS IN THE SYSTEM:

Biographic information including name, social security number, position, title/rank, and expertise; locator information including telephone numbers, fax numbers, and addresses (primary, email, and pouch); and information related to security clearances and access approvals, including clearances held, current status of clearances, and period of certification.

RECORD SOURCE CATEGORIES:

Individuals covered by this system, and points of contact provided by U.S. government agencies.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-5

SYSTEM NAME AND NUMBER:

Center for the Study of Intelligence (CSI) Records (CIA-5).

SECURITY CLASSIFICATION:

The classification of records in this system can range from UNCLASSIFIED to TOP SECRET.

SYSTEM LOCATION:

Central Intelligence Agency, Washington, DC 20505.

SYSTEM MANAGER(S):

Director, Center for the Study of Intelligence, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333 as amended, 73 FR 45325.

PURPOSE(S) OF THE SYSTEM:

Records in this system are used by authorized personnel to: ensure process integrity; enable the CIA and the Director of the CIA to carry out their lawful and authorized responsibilities; and record experiences of current and former CIA associates for use in CSI projects.

CATEGORIES OF INDIVIDUALS COVERED BY THE SYSTEM:

Current and former CIA staff and contract employees, personal services independent contractors to CIA, and current and former employees detailed to the CIA who have participated in an “oral history” program, or worked with CSI.

CATEGORIES OF RECORDS IN THE SYSTEM:

Names, biographic data and the content of information provided by individuals who have participated in CSI's “oral history” program, or worked with CSI.

RECORD SOURCE CATEGORIES:

Individuals covered by this system; and CIA records.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-6

SYSTEM NAME AND NUMBER:

Manuscript Review Records (CIA-6).

SECURITY CLASSIFICATION:

The classification of records in this system can range from UNCLASSIFIED to TOP SECRET.

SYSTEM LOCATION:

Central Intelligence Agency, Washington, DC 20505.

SYSTEM MANAGER(S):

Chair, Publications Review Board, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325; Executive Order 13526, 75 FR 705, or its successor; Executive Order 12968, 60 FR 40245, as amended by Executive Order 13467, 73 FR 38103; Snepp v. United States, 444 U.S. 507 (1980).

PURPOSE(S) OF THE SYSTEM:

Records in this system are used by authorized personnel: to ensure process integrity; to enable the CIA and the Director of the CIA to carry out their lawful and authorized responsibilities; as references for manuscripts, meeting minutes, official memoranda, bibliographic files, and related documents which have been submitted for review in compliance with applicable regulations; and to facilitate review of new manuscript submissions of proposed publications or speeches authored or given by present or former employees and other authors obligated to submit writings or oral presentations for pre-publication review.

CATEGORIES OF INDIVIDUALS COVERED BY THE SYSTEM:

Current and former CIA employees; other authors obligated to submit writings or oral presentations for pre-publication review; and individuals otherwise involved in pre-publication review matters with CIA.

CATEGORIES OF RECORDS IN THE SYSTEM:

Manuscripts and other writings submitted for pre-publication review; Publication Review Board meeting minutes, official memoranda, bibliographic files, and related documents; and Publication Review Board Reference Center documentation.

RECORD SOURCE CATEGORIES:

Current and former CIA employees and other obligated authors; Publication Review Board members and staff; and other CIA personnel involved in the publications review process.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-7

SYSTEM NAME AND NUMBER:

Security Access Records (CIA-7).

SECURITY CLASSIFICATION:

The classification of records in this system can range from UNCLASSIFIED to TOP SECRET.

SYSTEM LOCATION:

Central Intelligence Agency, Washington, DC 20505.

SYSTEM MANAGER(S):

Director of Security, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Federal Information Security Modernization Act of 2014, 44 U.S.C. 3551 et seq.; Executive Order 12333, as amended, 73 FR 45325.

PURPOSE(S) OF THE SYSTEM:

Records in this system are used by authorized personnel to: ensure process integrity; enable the CIA and the Director of the CIA to carry out their lawful and authorized responsibilities; verify individuals' authorization to access CIA buildings and facilities, including, but not limited to, Agency information systems and resources; create a record of individuals' access to CIA-controlled buildings and facilities; facilitate the issuance and retrieval of visitor and temporary badges; and provide statistical data on building and facility access patterns for resource planning purposes.

CATEGORIES OF INDIVIDUALS COVERED BY THE SYSTEM:

CIA employees and other individuals submitted for authorization to access CIA-controlled buildings and facilities.

CATEGORIES OF RECORDS IN THE SYSTEM:

Personal identification information; building and entrance information; entry or exit data and codes; credential information; and facility activity and access information.

RECORD SOURCE CATEGORIES:

CIA badge system; after-hours building and facility logs; visitor-no-escort badge record cards; and permits and identification sources.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-8

SYSTEM NAME AND NUMBER:

Security Operations Records (CIA-8).

SECURITY CLASSIFICATION:

The classification of records in this system can range from UNCLASSIFIED to TOP SECRET.

SYSTEM LOCATION:

Central Intelligence Agency, Washington, DC 20505.

SYSTEM MANAGER(S):

Director of Security, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records in this system are used by authorized personnel to: ensure process integrity; enable the CIA and the Director of the CIA to carry out their lawful and authorized responsibilities; track events, individuals, and groups of individuals that may pose a threat to the CIA; assist CIA security officials in identifying present and future threats to CIA-controlled property or facilities and CIA personnel; track traffic violations, security incidents, and access control issues; serve as a statistical and management reporting tool; and facilitate court cases or other legal proceedings.

CATEGORIES OF INDIVIDUALS COVERED BY THE SYSTEM:

Individuals, including CIA employees, who have contacted or been referred to the CIA's Security Operations Center; individuals, including CIA employees, who have been responsible for or suspected of security incidents, or have witnessed, reported, or investigated security incidents involving CIA information, and/or CIA-controlled property or facilities; individuals who have had restrictions imposed upon their entrance to CIA-controlled property or facilities; and individuals involved in traffic violations on CIA-controlled property or facilities.

CATEGORIES OF RECORDS IN THE SYSTEM:

Personal identification and event information that includes: biographic information, including name, social security number, and CIA identification information; information on security-related incidents occurring on CIA-controlled property or facilities, including date and place of incidents, subject matter or incident description, arrests and violation information, including court disposition and vehicular information where appropriate.

RECORD SOURCE CATEGORIES:

Individuals covered by this system of records; members of the general public; CIA employees; and employees of other federal agencies and state and local governments.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-9

SYSTEM NAME AND NUMBER:

Industrial Security Clearance Records (CIA-9).

SECURITY CLASSIFICATION:

The classification of records in this system can range from UNCLASSIFIED to TOP SECRET.

SYSTEM LOCATION:

Central Intelligence Agency, Washington, DC 20505.

SYSTEM MANAGER(S):

Procurement Executive, Office of the Chief Financial Officer, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325 Executive Order 10450, 5 U.S.C. 7311 note; Executive Order 13526, 60 FR 40245, as amended by Executive Order 13467, 73 FR 38103; Executive Order 13526, 75 FR 705; and Executive Order 13587, 76 FR 63811.

PURPOSE(S) OF THE SYSTEM:

Records in this system are used by authorized personnel to: ensure process integrity; enable the CIA and the Director of the CIA to carry out their lawful and authorized responsibilities; document security clearance(s) held by industrial contractors, commercial vendors, and persons in the private sector associated with the CIA; and provide a reference to answer inquiries on security clearances.

CATEGORIES OF INDIVIDUALS COVERED BY THE SYSTEM:

Industrial contractors and commercial vendors; and persons in the private sector associated with the CIA who are submitted for industrial security clearances.

CATEGORIES OF RECORDS IN THE SYSTEM:

Biographic data, including name, address, position, date of birth, and social security number; and security clearance information.

RECORD SOURCE CATEGORIES:

Individuals who hold or have held security clearances and the organizations with which they are employed or otherwise associated; and certification of clearance from the Center for CIA Security.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-10

SYSTEM NAME AND NUMBER:

Parking Records (CIA-10).

SECURITY CLASSIFICATION:

The classification of records in this system can range from UNCLASSIFIED to TOP SECRET.

SYSTEM LOCATION:

Central Intelligence Agency, Washington, DC 20505.

SYSTEM MANAGER(S):

Director, Office of Facilities, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325; the Federal Management Regulation, 41 CFR parts 102-74.265-310 and 102-76, Subpart B.

PURPOSE(S) OF THE SYSTEM:

Records in this system are used by authorized personnel to: ensure process integrity; provide a data source for statistical and pattern analysis to support resource planning and business analytics; enable the CIA and the Director of the CIA to carry out their lawful and authorized responsibilities; document and improve the allocation and utilization of parking at CIA-managed or controlled facilities; and support parking enforcement.

CATEGORIES OF INDIVIDUALS COVERED BY THE SYSTEM:

CIA employees and any other individuals requiring parking permits at CIA-managed or controlled facilities.

CATEGORIES OF RECORDS IN THE SYSTEM:

Names of individuals requesting parking permits, their office location and phone number, grade, badge number, vehicle license number, and any relevant medical information needed for individuals requiring reasonable accommodation for parking or ADA accessible parking.

RECORD SOURCE CATEGORIES:

Information may be provided by CIA employees and other eligible individuals requiring parking permits at CIA-managed or controlled facilities.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-11 [rescinded]

SORN CIA-11 is RESCINDED and the number held in reserve.

SYSTEM NAME AND NUMBER:

Accountable Property Records (CIA-11).

HISTORY:

70 FR 42417, July 22, 2005.

CIA-12

SYSTEM NAME AND NUMBER:

Vehicle Operator Records (CIA-12).

SECURITY CLASSIFICATION:

The classification of records in this system can range from UNCLASSIFIED to TOP SECRET.

SYSTEM LOCATION:

Central Intelligence Agency, Washington, DC 20505.

SYSTEM MANAGER(S):

Chief, Transportation Support, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records in this system are used by authorized personnel to: ensure process integrity; enable the CIA and the Director of the CIA to carry out their lawful and authorized responsibilities; document CIA staff and contract employees who are qualified to drive buses, trucks, and other specialty vehicles in the course of their CIA employment duties; and issue official U.S. Government driver's licenses and renewals.

CATEGORIES OF INDIVIDUALS COVERED BY THE SYSTEM:

CIA staff and contract employees, personal services independent contractors, or industrial contractors who have licenses to drive buses, trucks, and other specialty vehicles as part of their official CIA employment duties.

CATEGORIES OF RECORDS IN THE SYSTEM:

Biographic data on employees; medical qualification forms; driver test data; license numbers; registers of permits issued; and accident report records.

RECORD SOURCE CATEGORIES:

CIA staff and contract employees, personal services independent contractors, and industrial contractors; and federal, state, and local law enforcement agencies as their records relate to competency testing and accident reporting.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-13

SYSTEM NAME AND NUMBER:

Component Human Resource Records (CIA-13).

SECURITY CLASSIFICATION:

The classification of records in this system can range from UNCLASSIFIED to TOP SECRET.

SYSTEM LOCATION:

Central Intelligence Agency, Washington, DC 20505.

SYSTEM MANAGER(S):

Office of Personnel Resources and affiliated component level offices, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; the Central Intelligence Agency Retirement Act, 50 U.S.C. 2001 et seq.; Executive Order 12333, as amended, 73 FR 45325.

PURPOSE(S) OF THE SYSTEM:

Records in this system are used by authorized personnel to: ensure process integrity; provide a data source for statistical and pattern analysis to support resource planning and business analytics; enable the CIA and the Director of the CIA to carry out their lawful and authorized responsibilities; facilitate and expedite processing or procedural requirements related to personnel management, including employee evaluations, assignments, and re-assignments, promotions and within-grade increases, authorization of training, awards, and leave; organizational, staffing and budgetary planning; and as a basis for administrative, disciplinary or other adverse action.

CATEGORIES OF INDIVIDUALS COVERED BY THE SYSTEM:

Current and former CIA staff and contract employees; and military and civilian personnel detailed or assigned to the CIA.

CATEGORIES OF RECORDS IN THE SYSTEM:

Memoranda, correspondence, and other documents, including supervisors' working files maintained by Agency offices and components, concerning individuals covered by this system on matters involving: performance appraisals; travel, financial, retirement; and claims information; time and attendance, including leave information; official evaluations of performance, conduct, and suitability; formal education, certification, training, and testing; special qualifications or restrictions; home address, phone number(s), and other emergency contact information; limited medical information, including self-disclosed disabilities and job-related injuries; skills assessment data; workplace locator information; cables and dispatches of administrative and operational significance; employee evaluation panel files; employee awards; and background data documenting reasons for personnel actions, decisions, or recommendations made about an employee, including adverse or other personnel action(s).

RECORD SOURCE CATEGORIES:

Information may be provided by individuals covered by the system; educational institutions and private organizations; CIA employees; and other federal agencies.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-14

SYSTEM NAME AND NUMBER:

Information Release Records (CIA-14).

SECURITY CLASSIFICATION:

The classification of records in this system can range from UNCLASSIFIED to TOP SECRET.

SYSTEM LOCATION:

Central Intelligence Agency, Washington, DC 20505.

SYSTEM MANAGER(S):

Chief of Information Management Services, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; the Freedom of Information Act, 5 U.S.C. 552; the Privacy Act, 5 U.S.C. 552a; the President John F. Kennedy Assassination Records Collection Act of 1992, 44 U.S.C. 2107 note; the Nazi War Crimes Disclosure Act, 5 U.S.C. 552 note; the Japanese Imperial Government Records Disclosure Act, 5 U.S.C. 552 note; Executive Order 12333, as amended, 73 FR 45325; Executive Order 13526, 75 FR 705, or its successor.

PURPOSE(S) OF THE SYSTEM:

Records in this system are used by authorized personnel to: ensure process integrity; enable the CIA and the Director of the CIA to carry out their lawful and authorized responsibilities; support the review, redaction, and release of CIA records pursuant to federal statutes and Executive Orders; formulate responses to Freedom of Information Act (FOIA), Privacy Act (PA), Executive Order 13526 (E.O.), or its successor, and special search requests; provide reference in processing cases under administrative appeal and civil litigation; provide documentation for referral to other federal agencies for their review pursuant to E.O. 13526, or its successor, and the third agency rule; and generate external reports as required by federal statutes and internal reports for use by CIA officials.

CATEGORIES OF INDIVIDUALS COVERED BY THE SYSTEM:

Individuals who make information release requests to CIA under provisions of the Freedom of Information Act (FOIA), Privacy Act (PA), and Executive Order 13526 (E.O.); individuals who make special search requests and other related individuals; and individuals who are the subject of FOIA/PA/E.O. and special search requests and other related individuals.

CATEGORIES OF RECORDS IN THE SYSTEM:

FOIA/PA/E.O. requests and processing files including correspondence and supporting documents; documents responsive to FOIA/PA/E.O. and special search requests; duplicate files maintained by Directorate Information Review Officers (IROs) and component focal points; weekly reports of FOIA/PA/E.O. case activity and status; and indices related to special searches.

RECORD SOURCE CATEGORIES:

Individuals who make FOIA/PA/E.O. and special search requests, and related individuals; and CIA components that provide information in response to FOIA/PA/E.O. and special search requests.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-15

SYSTEM NAME AND NUMBER:

Guest Speaker Records (CIA-15).

SECURITY CLASSIFICATION:

The classification of records in this system can range from UNCLASSIFIED to TOP SECRET.

SYSTEM LOCATION:

Central Intelligence Agency, Washington, DC 20505.

SYSTEM MANAGER(S):

Chief Information Officer, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records in this system are used by authorized personnel: to ensure process integrity; to enable the CIA and the Director of the CIA to carry out their lawful and authorized responsibilities; and for curriculum development and selection of speakers for training courses and special presentations. Biographic data may be used as part of the official file for personal services contracts.

CATEGORIES OF INDIVIDUALS COVERED BY THE SYSTEM:

Individuals under consideration for guest speaker engagements, training courses, and other presentations; such individuals may include members of the academic and business world as well as present and former senior CIA and other government officials.

CATEGORIES OF RECORDS IN THE SYSTEM:

Biographic data including academic credentials; publicly available information, including publications authored by the potential speaker; correspondence; and administrative records.

RECORD SOURCE CATEGORIES:

Individuals covered by this system; CIA employees; academic institutions and private organizations; libraries and commercial databases; and federal agencies.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-16

SYSTEM NAME AND NUMBER:

Employee Clinical and Psychiatric Records (CIA-16).

SECURITY CLASSIFICATION:

The classification of records in this system can range from UNCLASSIFIED to TOP SECRET.

SYSTEM LOCATION:

Central Intelligence Agency, Washington, DC 20505.

SYSTEM MANAGER(S):

Director, Office of Medical Services, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; the Genetic Information Nondiscrimination Act of 2008, as amended, 42 U.S.C. 2000ff et seq.; the Rehabilitation Act of 1973, as amended, 29 U.SC. 791 et seq.; Executive Order 12333, as amended, 73 FR 45325.

PURPOSE(S) OF THE SYSTEM:

Records in this system are used by authorized personnel to: ensure process integrity; enable the CIA and the Director of the CIA to carry out their lawful and authorized responsibilities; provide a data source for statistical and pattern analysis to support resource planning and business analytics; maintain complete and accurate clinical and psychiatric records on all CIA employees and other eligible individuals, their dependents, military and civilian employees detailed to CIA and select Intelligence Community elements, and retired or separated employees; respond to requirements relating to occupational health and medical surveillance; evaluate the medical suitability of personnel for assignment, travel, fitness-for-duty, health maintenance and in reviewing applications for medical disability retirement; track the safety and health status of CIA employees and other eligible individuals, components, sites, and operations; and refer individuals for specialty medical assistance, as appropriate.

CATEGORIES OF INDIVIDUALS COVERED BY THE SYSTEM:

Current and former CIA staff, contract employees, and other eligible individuals and their dependents; contractors; military and civilian personnel detailed to the CIA and their dependents; retired or separated CIA personnel; and physicians who provide services to any of the categories of individuals listed above.

CATEGORIES OF RECORDS IN THE SYSTEM:

Reports of medical examinations and related documents; personal medical histories; laboratory data; X-rays; private physician reports; reports of on-the-job injuries and illnesses; results of psychiatric screening and testing; reports of psychiatric interviews; records of immunizations; records on individuals covered by this system receiving psychiatric counseling; other medical materials relating to occupational health, medical surveillance, safety training, and preventative medicine; and/or any other types of individually identifiable health information generated or used in the course of medical or psychiatric treatment. The system may also include biographic and professional credential information on physicians providing evaluations and/or treatments.

RECORD SOURCE CATEGORIES:

Information may be provided by individuals covered by this system. Additional record sources may include routine medical processing and reports from private physicians or medical facilities, when written permission is granted by the individual.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference. In addition to the General Routine Uses incorporated by references, the following additional routine uses also apply to this SORN:

20. Disclosure to a public health authority (domestic or foreign) that is authorized by law to collect or receive such information for the purpose of preventing or controlling disease, injury, or disability, including but not limited to the conduct of public health investigations or interventions.

21. Disclosure to the Office of Personnel Management in the case of an employee who applies for medical disability, and to the Department of Labor in the case of an employee who applies for Worker's Compensation benefits.

22. Disclosure to another health care provider, a group health plan, a health insurance issuer, or a health maintenance organization for purposes of carrying out treatment, payment, or health care operations.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-17

SYSTEM NAME AND NUMBER:

Applicant Clinical and Psychiatric Records (CIA-17).

SECURITY CLASSIFICATION:

The classification of records in this system can range from UNCLASSIFIED to TOP SECRET.

SYSTEM LOCATION:

Central Intelligence Agency, Washington, DC 20505.

SYSTEM MANAGER(S):

Director, Office of Medical Services, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; the Genetic Information Nondiscrimination Act of 2008, as amended, 42 U.S.C. 2000ff et seq.; the Rehabilitation Act of 1973, as amended, 29 U.SC. 791 et seq.; Executive Order 12333, as amended, 73 FR 45325.

PURPOSE(S) OF THE SYSTEM:

Records in this system are used by authorized personnel to: ensure process integrity; enable the CIA and the Director of the CIA to carry out their lawful and authorized responsibilities; provide a data source for statistical and pattern analysis to support resource planning and business analytics; maintain complete and accurate clinical and psychiatric records on all individuals applying for CIA and/or other federal employment; evaluate the medical suitability of applicants; and serve as a basis for the Employee Clinical and Psychiatric Record once an applicant is hired by the CIA or other select Intelligence Community element.

CATEGORIES OF INDIVIDUALS COVERED BY THE SYSTEM:

Current and former applicants for employment with the CIA, and any other individuals eligible to participate in the CIA's medical program.

CATEGORIES OF RECORDS IN THE SYSTEM:

Reports of medical examinations and related documents; personal medical histories; laboratory data; results of psychiatric screening and testing; reports of psychiatric interviews; and/or any other types of individually identifiable health information generated or used in the course of applicant medical or psychiatric evaluations.

RECORD SOURCE CATEGORIES:

Information may be provided by individuals covered by this system. Additional record sources may include routine medical processing and reports from private physicians or medical facilities, when written permission is granted by the applicant.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference. In addition to the General Routine Uses incorporated by reference, the following additional routine use also applies to this SORN:

20. Disclosure to a public health authority (domestic or foreign) that is authorized by law to collect or receive such information for the purpose of preventing or controlling disease, injury, or disability, including but not limited to the conduct of public health investigations or interventions.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-18

SYSTEM NAME AND NUMBER:

Psychological Testing Data Records (CIA-18).

SECURITY CLASSIFICATION:

The classification of records in this system can range from UNCLASSIFIED to TOP SECRET.

SYSTEM LOCATION:

Central Intelligence Agency, Washington, DC 20505.

SYSTEM MANAGER(S):

Director, Office of Medical Services, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; the Genetic Information Nondiscrimination Act of 2008, as amended, 42 U.S.C. 2000ff et seq.; the Rehabilitation Act of 1973, as amended, 29 U.SC. 791 et seq.; Executive Order 12333, as amended, 73 FR 45325.

PURPOSE(S) OF THE SYSTEM:

Records in this system are used by authorized personnel to: ensure process integrity; enable the CIA and the Director of the CIA to carry out their lawful and authorized responsibilities; provide a data source for statistical and pattern analysis to support resource planning and business analytics; maintain psychological testing records; track individual test results which aid CIA management and advisory personnel, who have a need-to-know, in decision making; produce research reports of aggregate data for appropriate CIA officials and components; and examine the relationship between test scores and other variables of interest such as job performance.

CATEGORIES OF INDIVIDUALS COVERED BY THE SYSTEM:

Applicants for employment with the CIA and/or other select Intelligence Community elements; current and former CIA staff, contract employees, and other eligible individuals and their dependents; contractors, military and civilian personnel detailed to the CIA and their dependents; and retired or separated CIA personnel.

CATEGORIES OF RECORDS IN THE SYSTEM:

Psychological testing records, to include raw test data, testing scores, reports, and writing samples.

RECORD SOURCE CATEGORIES:

Individuals to whom records in this system pertain and who have completed a variety of psychological tests and interview sessions with CIA medical officers, as well as individuals involved in the assessment of test data.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference. In addition to the General Routine Uses incorporated by reference, the following additional routine uses also apply to this SORN:

20. Disclosure to a public health authority (domestic or foreign) that is authorized by law to collect or receive such information for the purpose of preventing or controlling disease, injury, or disability, including but not limited to the conduct of public health investigations or interventions.

21. Disclosure to the Office of Personnel Management in the case of an employee who applies for medical disability, and to the Department of Labor in the case of an employee who applies for Worker's Compensation benefits.

22. Disclosure to another health care provider, a group health plan, a health insurance issuer, or a health maintenance organization for purposes of carrying out treatment, payment, or health care operations.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secured, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-19

SYSTEM NAME AND NUMBER:

Agency Human Resource Records (CIA-19).

SECURITY CLASSIFICATION:

The classification of records in this system can range from UNCLASSIFIED to TOP SECRET.

SYSTEM LOCATION:

Central Intelligence Agency, Washington, DC 20505.

SYSTEM MANAGER(S):

Director, Office of Personnel Resources, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; the Central Intelligence Agency Retirement Act, 50 U.S.C. 2001 et seq.; Executive Order 9397, as amended, 73 FR 70239; Executive Order 12333, as amended, 73 FR 45325.

PURPOSE(S) OF THE SYSTEM:

Records in this system are used by authorized personnel to: ensure process integrity; provide a data source for statistical and pattern analysis to support resource planning and business analytics; enable the CIA and the Director of the CIA to carry out their lawful and authorized responsibilities; serve as the primary human resources management system for the CIA; maintain a comprehensive and continuing record of an individual's service, status, skills, and personnel history; perform centralized personnel functions such as employment, separation of employment, payroll, position and personnel staffing, and general employee transactions; administer systems dependent on personnel data such as insurance, medical and health care, and authorized retirement and retirement savings; compute salary, attendance, leave, benefits and entitlements for payroll and its dependent systems including insurance, medical and health care, and authorized retirement and retirement savings systems; maintain applicant and employee biographic and demographic data; compile statistical reports for CIA management on workforce strength, distribution and utilization of staffing, average grades and salaries, diversity and inclusion demographics, projected retirements, profiles of CIA skills and qualifications, comparative rates on promotions, separations, new employees, and reasons for separations; provide information and statistics for heads of Career Services to assist in administering career development and evaluation programs, including promotion rates and headroom, performance appraisal report ratings, qualifications, changes in their Career Services; assess staffing patterns, grade and salary data for office heads required for staffing and budget projections; provide information and statistics for components responsible for administering recruitment, hospitalization, insurance, and authorized retirement and retirement savings programs; report statistical data calls regarding workforce questions, and provide records of employee transactions to responsible CIA officials and to the employees themselves.

CATEGORIES OF INDIVIDUALS COVERED BY THE SYSTEM:

Current and former CIA staff and contract employees; military and civilian personnel detailed to the CIA; applicants in process for CIA employment; candidates for CIA awards; dependents and beneficiaries designated by CIA employees who were participants in authorized retirement systems, retirement savings programs, and other federal benefit programs; and certain OSS veterans.

CATEGORIES OF RECORDS IN THE SYSTEM:

Biographic data including records on education, military service data, insurance, medical and retirement status and locator information on individuals covered by this system; employment information including records on applicant tracking, job matching, seasonal and cooperative employment programs, and information on those separating from CIA employment; personnel information including records on employment history, leave, time and attendance, fitness-for-duty and performance appraisal reports, awards, travel, training, job injury, worker's compensation records and security clearance information; CIA personnel information including records on position and job title information, qualifications and skills assessments, authorized personnel staffing data, levels, and patterns; financial information relating to payroll and authorized retirement and retirement savings accounts, including authorized or required payroll deductions or contributions for federal, state and local taxes, other tax documentation, and retirement, insurance and leave entitlements; banking instructions for dissemination of salary paychecks; contracts relating to contract employees and independent contractors; and financial disclosure forms submitted pursuant to the Ethics in Government Act. Due to CIA's unique personnel authorities, this system also contains the Official Personnel Files of current and former CIA staff used by the Office of Personnel Management for the administration of Federal employee benefit programs, to include insurance, savings and retirement programs. Duplicate copies that fall within the scope of OPM GOVT-1 “General Personnel Records” are also maintained separately by OPM.

RECORD SOURCE CATEGORIES:

Information may be provided by individuals covered by this system; educational institutions and private organizations; physicians and medical practitioners; and other U.S. government departments and agencies.

ROUTINE USES OF RECORDS MAINTAINED IN THE SYSTEM, INCLUDING CATEGORIES OF USERS AND THE PURPOSES OF SUCH USES:

In addition to the disclosures generally permitted under 5 U.S.C. 552a(b), this information is set forth in the “Statement of General Routine Uses for the Central Intelligence Agency,” set out above, which is incorporated herein by reference. In addition to the General Routine Uses incorporated by reference, the following additional routine uses also apply to this SORN:

20. Disclosure to the Office of Personnel Management for the administration of Federal benefit programs and other services under relevant laws and regulations governing federal employment, to include authorized insurance, savings and retirement programs.

21. Disclosure to the Department of Labor, Social Security Administration, or other Federal, state or municipal agencies when necessary to adjudicate a claim or provide benefits under programs managed by such entities.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-20 [rescinded]

SORN CIA-20 is RESCINDED and the number held in reserve.

SYSTEM NAME AND NUMBER:

Official Personnel Files (CIA-20).

HISTORY:

70 FR 42417, July 22, 2005.

CIA-21

SYSTEM NAME AND NUMBER:

Applicant Records (CIA-21).

SECURITY CLASSIFICATION:

The classification of records in this system can range from UNCLASSIFIED to TOP SECRET.

SYSTEM LOCATION:

Central Intelligence Agency, Washington, DC 20505.

SYSTEM MANAGER(S):

Chief, Recruitment Center, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records are used by CIA human resources management officials and other authorized personnel: to ensure process integrity; to enable the CIA and the Director of the CIA to carry out their lawful and authorized responsibilities; to review an applicant's or prospective applicant's qualifications; for security background investigations; for suitability determinations; for medical screening; and to determine whether employment with the CIA will be offered.

CATEGORIES OF INDIVIDUALS COVERED BY THE SYSTEM:

Applicants or prospective applicants for employment with the CIA.

CATEGORIES OF RECORDS IN THE SYSTEM:

Records concerning the applicant or prospective applicant, including: biographic data, medical and employment history statements, educational transcripts, and personal references; and records relating to employment processing, including: interview reports, test results, correspondence, review comments, and general processing records.

RECORD SOURCE CATEGORIES:

CIA applicants or prospective applicants; applicant or prospective applicant references; educational institutions and private organizations; physicians and medical practitioners; CIA employees; and other federal agencies.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section above below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

87 FR 67669, November 09, 2022.

70 FR 42417, July 22, 2005.

CIA-22

SYSTEM NAME AND NUMBER:

Personnel Security Records (CIA-22).

SECURITY CLASSIFICATION:

The classification of records in this system can range from UNCLASSIFIED to TOP SECRET.

SYSTEM LOCATION:

Central Intelligence Agency, Washington, DC 20505.

SYSTEM MANAGER(S):

Director of Security, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325; Executive Order 10450, 5 U.S.C. 7311 note; Executive Order 13526, 60 FR 40245, as amended by Executive Order 13467, 73 FR 38103; Executive Order 13526, 75 FR 705, or its successor; Executive Order 13587, 76 FR 63811.

PURPOSE(S) OF THE SYSTEM:

Records in this system are used by authorized personnel to: ensure process integrity; enable the CIA and the Director of the CIA to carry out their lawful and authorized responsibilities; to document personnel security and suitability decisions; assist with security eligibility determinations and employment or assignment suitability decisions in accordance with applicable statutes, Executive Orders, Director of Central Intelligence Directives, CIA regulations, and other applicable law; record information regarding security eligibility determinations and employment or assignment suitability decisions concerning individuals who are under consideration for affiliation or continued affiliation with the CIA, or access or continued access to classified or otherwise protected CIA information, projects, or facilities; verify individual security clearances or access approvals; and record information relevant to investigations into possible violations of CIA rules and regulations, including the possible loss or compromise of classified or protected CIA information.

CATEGORIES OF INDIVIDUALS COVERED BY THE SYSTEM:

Current and former applicants for CIA employment; CIA staff and contract employees; personal services independent contractors and industrial contractors; military and civilian personnel detailed to the CIA; individuals of security interest to CIA; persons of, or contemplated for, substantive affiliation with, or service to, the CIA; persons on whom the CIA has conducted or is conducting an investigation; and federal, civilian, and military personnel with whom the CIA conducts liaison.

CATEGORIES OF RECORDS IN THE SYSTEM:

Biographic data (including name, sex, date and place of birth, social security number, and completed security questionnaires); authorizations for the release of financial, travel, employment, housing, educational, and other information; summaries or reports of information obtained from other CIA records such as personnel, medical, or counterintelligence records; financial disclosure forms submitted by CIA personnel; travel data on individuals covered by this system; correspondence pertaining to an individual's suitability for CIA assignment or affiliation, and the individual's security eligibility for access to classified information, projects, or facilities; investigative reports, investigative information, and data pertaining to actual or purported compromises of classified or otherwise protected information; appraisals that summarize investigative results and provide the decision or rationale for determining whether an individual should receive access to classified information, projects, or facilities, or is suitable for CIA affiliation or assignment; documentation of, or relating to, interim or final actions relating to issues of security, discipline, or the grant, denial, suspension, or revocation of a CIA security clearance, access approval, or security approval; and secrecy agreements executed by individuals covered by this system.

RECORD SOURCE CATEGORIES: INDIVIDUALS COVERED BY THIS SYSTEM OF RECORDS:

Personal and business references provided by the individual or developed during the course of an investigation; educational institutions and private organizations; federal, state, and local government entities; public sources such as newspapers and periodicals, consumer reporting agencies, financial, travel, educational, employment-related, and other commercial sources; and classified and unclassified reporting on investigations and investigative materials.

ROUTINE USES OF RECORDS MAINTAINED IN THE SYSTEM, INCLUDING CATEGORIES OF USERS AND THE PURPOSES OF SUCH USES:

In addition to the disclosures generally permitted under 5 U.S.C. Section 552a(b), information on additional routine uses is set forth in the “Statement of General Routine Uses for the Central Intelligence Agency,” set out above, which is incorporated herein by reference. In addition to the General Routine Uses incorporated by reference, the following additional routine use also applies to this SORN:

20. Records in this system are used to provide information, including biographic information and records of security breaches, to other federal agencies involved in national security matters in the following circumstances: to respond to national agency checks; to certify security clearances and access approvals; and to provide information relevant to espionage investigations.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-23 [rescinded]

SORN CIA-23 is RESCINDED and the number held in reserve.

SYSTEM NAME AND NUMBER:

Intelligence Community Security Clearance and Access Approval Repository (CIA-23).

HISTORY:

70 FR 42417, July 22, 2005.

CIA-24

SYSTEM NAME AND NUMBER:

Polygraph Records (CIA-24).

SECURITY CLASSIFICATION:

The classification of records in this system can range from UNCLASSIFIED to TOP SECRET.

SYSTEM LOCATION:

Central Intelligence Agency, Washington, DC 20505.

SYSTEM MANAGER(S):

Director of Security, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325; Executive Order 10450, 5 U.S.C. 7311 note; Executive Order 13526, 75 FR 705, or its successor; Executive Order 12968, 60 FR 40245, as amended by Executive Order 13467, 73 FR 38103.

PURPOSE(S) OF THE SYSTEM:

Records in this system are used by authorized personnel to: ensure process integrity; enable the CIA and the Director of the CIA to carry out their lawful and authorized responsibilities; document polygraph results; assist with security eligibility determinations and employment or assignment suitability decisions in accordance with applicable statutes, Executive Orders, Director of Central Intelligence Directives, CIA regulations, and other applicable law; and to assist with investigations into possible violations of CIA rules and regulations, including the possible loss or compromise of classified or protected CIA information.

CATEGORIES OF INDIVIDUALS COVERED BY THE SYSTEM:

Current and former applicants for CIA employment; CIA staff and contract employees; personal services independent contractors and industrial contractors; military and civilian personnel detailed to the CIA; individuals of security interest to CIA; persons of, or contemplated for, substantive affiliation with, or service to, the CIA; and persons on whom the CIA has conducted or is conducting an investigation.

CATEGORIES OF RECORDS IN THE SYSTEM:

Polygraph reports; polygraph charts; polygraph tapes; and notes from polygraph interviews or activities related to polygraph interviews.

RECORD SOURCE CATEGORIES:

Individuals covered by this system of records.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to protect against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-25

SYSTEM NAME AND NUMBER:

Office of the Director Action Center (DAC) Records (CIA-25).

SECURITY CLASSIFICATION:

The classification of records in this system can range from UNCLASSIFIED to TOP SECRET.

SYSTEM LOCATION:

Central Intelligence Agency, Washington, DC 20505.

SYSTEM MANAGER(S):

Chief, DAC, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records in this system are used by authorized personnel to: ensure process integrity; enable the CIA and the Director of the CIA to carry out their lawful and authorized responsibilities; document the activities and policy decisions of the Director of the CIA; and serve as reference material for business areas within the purview of the Office of the Director.

CATEGORIES OF INDIVIDUALS COVERED BY THE SYSTEM:

Individuals who send correspondence to, or receive correspondence from, the Office of the Director; and individuals who are the subject of correspondence to or from the Office of the Director.

CATEGORIES OF RECORDS IN THE SYSTEM:

Correspondence and documents addressed to, received by, or originated in the Office of the Director concerning: matters of policy, operations, and security within the purview of the Director of the CIA; Congressional inquiries; and inquiries from the members of the general public.

RECORD SOURCE CATEGORIES:

U.S. Government records; publicly available information from the media, libraries, and commercial databases; and Executive branch and Congressional officials and staff members, and members of the general public who send correspondence to, or receive correspondence from, the Office of the Director of Central Intelligence.

ROUTINE USES OF RECORDS MAINTAINED IN THE SYSTEM, INCLUDING CATEGORIES OF USERS AND THE PURPOSES OF SUCH USES:

In addition to the disclosures generally permitted under 5 U.S.C. Section 552a(b), information on additional routine uses is set forth in the “Statement of General Routine Uses for the Central Intelligence Agency,” set out above, which is incorporated herein by reference. In addition to the General Routine Uses incorporated by reference, the following additional routine use also applies to this SORN:

20. Correspondence contained in this system of records may be provided to U.S. Government agencies, other than the CIA, when it is determined that such other agencies can more appropriately handle the matters addressed in the correspondence.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-26

SYSTEM NAME AND NUMBER:

Office of General Counsel Records (CIA-26).

SECURITY CLASSIFICATION:

The classification of records in this system can range from UNCLASSIFIED to TOP SECRET.

SYSTEM LOCATION:

Central Intelligence Agency, Washington, DC 20505.

SYSTEM MANAGER(S):

General Counsel, Office of General Counsel, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records in this system are used by authorized personnel to: ensure process integrity; enable the CIA and the Director of the CIA to carry out their lawful and authorized responsibilities; provide a data source for statistical and pattern analysis to support resource planning and business analytics; provide legal advice and representation to the CIA and to the Director of the CIA; provide factual information necessary for the preparation of legal documents, including pleadings, subpoenas, motions, affidavits, declarations, testimonies, briefs, legal opinions, litigation reports prepared for the Department of Justice, reports(including to law enforcement agencies), and other general attorney work product; provide a historical record of all private attorneys who have received security clearances and/or access approvals to receive and discuss U.S. Government information necessary to their representation of CIA-affiliated clients, and record the nature, scope and duration of private attorneys' legal representations of CIA-affiliated clients; and maintain a record of federal, state, local, international, or foreign litigation, administrative claims, and other legal matters in which CIA is a party or has an interest.

CATEGORIES OF INDIVIDUALS COVERED BY THE SYSTEM:

Current and former CIA staff and contract employees, personal services independent contractors, employees of industrial contractors, military and civilian personnel detailed or assigned to the CIA; applicants for employment with the CIA; current and former employees and contractors of U.S. Government agencies; individuals in contact with the CIA, including individuals whose inquiries concerning the CIA or the Intelligence Community (IC) are forwarded to the Office of General Counsel for response; attorneys, court staff, or support staff in private practice who hold CIA security clearances or access approvals; individuals in government, academia, the business community, or other elements of the private sector with expertise on matters of interest to the Office of General Counsel or relating to financial transactions associated with commercial vendors and contracts; and individuals who may be involved in matters which implicate the CIA's and/or the IC's legal authorities, responsibilities, and obligations, including but not limited to administrative claimants, grievants, parties in litigation, witnesses, staff, targets or potential targets of investigations or intelligence collection; and individuals who are interviewed by, or provide information to the CIA or the IC.

CATEGORIES OF RECORDS IN THE SYSTEM:

Legal documents, including but not limited to pleadings, subpoenas, motions, research opinions, affidavits, declarations, briefs, memoranda, reports, including litigation reports, and legal opinions; biographic information for private attorneys, including Social Security Number, date and place of birth, education, law firm (if any), office addresses, fax and telephone numbers, bar memberships, legal specialties and/or areas of practice, names of CIA-affiliated clients, and date and type of security clearance and/or access approval pending or granted; crimes reports filed with or obtained from the U.S. Department of Justice or other appropriate law enforcement agencies concerning individuals covered by this system of records; internal CIA documents and cables concerning individuals covered by this system of records; and correspondence with members of the public, members of the U.S. Congress, Congressional staff, oversight entities, and federal, state, local, international and foreign agencies, courts, private sector entities, and administrative tribunals.

RECORD SOURCE CATEGORIES:

Information may be provided by individuals covered by this system; CIA internally derived information; other U.S. Government entities; state, local, and private agencies and courts, and publicly available information.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-27

SYSTEM NAME AND NUMBER:

Office of Equal Employment Opportunity (OEEO) Records (CIA-27).

SECURITY CLASSIFICATION:

The classification of records in this system can range from UNCLASSIFIED to TOP SECRET.

SYSTEM LOCATION:

Central Intelligence Agency, Washington, DC 20505.

SYSTEM MANAGER(S):

Director, Office of Equal Employment Opportunity, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Equal Employment Opportunity Act of 1972, 42 U.S.C. 2000e et seq.; Age Discrimination in Employment Act, 29 U.S.C. 633a; the Rehabilitation Act of 1973, as amended, 29 U.S.C. 701 et seq.; Executive Order 12333, as amended, 73 FR 45325; Executive Order 11478, as amended by Executive Order 13097, 63 FR 30097 and Executive Order 13152, 65 FR 26115.

PURPOSE(S) OF THE SYSTEM:

Records in this system are used by authorized personnel to: ensure process integrity; enable the CIA and the Director of the CIA to carry out their lawful and authorized responsibilities; process EEO complaints; harassment complaints, provide information for review by the Equal Employment Opportunity Commission, including statistics; provide information for federal court review; track requests and provide reasonable accommodations through the provision of products and services to individuals who make requests for such accommodations; and track applications for retirement on the basis of medical disabilities.

CATEGORIES OF INDIVIDUALS COVERED BY THE SYSTEM:

Current and former CIA staff and contract employees, personal services independent contractors, industrial contractors, and military and civilian personnel detailed to the CIA; and applicants for employment with the CIA.

CATEGORIES OF RECORDS IN THE SYSTEM:

Documents and materials relating to EEO counselings or complaints, including: data collected by an EEO Counselor or Investigator which bears on charges of discrimination or harassment brought by a complainant; sworn affidavits from the complainant, the alleged discriminating officer(s), and other individuals as appropriate; other documents or statistical evidence considered pertinent to the case which assists the CIA or an authorized adjudicator in making a decision; requests made by individuals or offices for reasonable accommodations, records related to an OEEO or harassment complaint, and the products or services provided in response to such requests; and information regarding individuals who apply for retirement on the basis of medical disabilities, and other individuals with medical disabilities.

RECORD SOURCE CATEGORIES:

Individuals covered by this system; applicants for employment with the CIA; individuals who provide information during the investigation of EEO complaints; and medical and psychiatric personnel.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-28

SYSTEM NAME AND NUMBER:

Congressional Liaison Records (CIA-28).

SECURITY CLASSIFICATION:

The classification of records in this system can range from UNCLASSIFIED to TOP SECRET.

SYSTEM LOCATION:

Central Intelligence Agency, Washington, DC 20505.

SYSTEM MANAGER(S):

Director, Office of Congressional Affairs, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records in this system are used by authorized personnel to: ensure process integrity; enable the CIA and the Director of the CIA to carry out their lawful and authorized responsibilities; document constituent or other inquiries forwarded by members of Congress and staff to the CIA and CIA's responses to those inquiries; coordinate and prepare memoranda and position papers reflecting CIA's views on proposed legislation; facilitate Congressional briefings by maintaining a record of CIA's positions on issues of interest to particular members of Congress and staff; and provide guidance to employees on Congressional matters.

CATEGORIES OF INDIVIDUALS COVERED BY THE SYSTEM:

Current and former members of the U.S. Congress and Congressional staff; individuals whose inquiries relating to CIA matters are forwarded by members of the U.S. Congress or Congressional staff to CIA for response, and CIA employees wishing to contact members of Congress or Congressional staff on official matters.

CATEGORIES OF RECORDS IN THE SYSTEM:

Correspondence and other documents between CIA's Office of Congressional Affairs, members of Congress, Congressional staff, constituents, and other CIA offices and/or U.S. Government entities regarding inquiries made by constituents or others and sent to the CIA for response; and memoranda, correspondence, position papers, and other documents used to support CIA's liaison with members of Congress, staff, and their offices and committees, including memoranda documenting substantive briefings and debriefings, as well as reports provided to the CIA by Congressional personnel.

RECORD SOURCE CATEGORIES:

Current and former members of the U.S. Congress and their staffs; CIA employees; individuals whose inquiries relating to CIA matters are forwarded by members or staff of the U.S. Congress to the CIA for response.

ROUTINE USES OF RECORDS MAINTAINED IN THE SYSTEM, INCLUDING CATEGORIES OF USERS AND THE PURPOSES OF SUCH USES:

In addition to the disclosures generally permitted under 5 U.S.C. 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-29

SYSTEM NAME AND NUMBER:

Public Affairs Records (CIA-29).

SECURITY CLASSIFICATION:

The classification of records in this system can range from UNCLASSIFIED to TOP SECRET.

SYSTEM LOCATION:

Central Intelligence Agency, Washington, DC 20505.

SYSTEM MANAGER(S):

Director, Office of Public Affairs, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records in this system are used by authorized personnel to: ensure process integrity; enable the CIA and the head of the CIA to carry out their lawful and authorized responsibilities; provide a record of significant media coverage of the CIA; provide a record of contact with media representatives by the Office of Public Affairs; maintain a record of correspondence between members of the general public who raise questions about CIA activities; and maintain a record of CIA personnel media contacts.

CATEGORIES OF INDIVIDUALS COVERED BY THE SYSTEM:

Members of the general public who have written to the CIA to inquire about CIA activities; CIA personnel who have reported media contacts; and media representatives.

CATEGORIES OF RECORDS IN THE SYSTEM:

Media coverage, including newspaper and magazine articles, which mentions the CIA; correspondence between media representatives and the Office of Public Affairs; memoranda of conversations between the Office of Public Affairs and media representatives; correspondence from the general public regarding CIA, and CIA responses; internal CIA memoranda concerning the subject matter of this records system; and names of CIA personnel who have reported media contacts.

RECORD SOURCE CATEGORIES:

Publicly available information from the media, libraries, and commercial databases; CIA records concerning CIA activities and the subject matter of media contacts; and individuals covered by this system of records.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-30

SYSTEM NAME AND NUMBER:

Inspector General Research Records (CIA-30).

SECURITY CLASSIFICATION:

The classification of records in this system can range from UNCLASSIFIED to TOP SECRET.

SYSTEM LOCATION:

Central Intelligence Agency, Washington, DC 20505.

SYSTEM MANAGER(S):

Inspector General, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; The Inspector General Act of 1978, as amended, Executive Order 12333, as amended, 73 FR 45325.

PURPOSE(S) OF THE SYSTEM:

Records in this system are used by authorized personnel to: ensure process integrity; enable the CIA and the Director of the CIA to carry out their lawful and authorized responsibilities; and for reference use in connection with Executive branch and Congressional committee reviews of CIA activities.

CATEGORIES OF INDIVIDUALS COVERED BY THE SYSTEM:

CIA personnel; and other individuals whose names appear in documents assembled primarily from other CIA records systems by the Inspector General in relation to Executive branch commission and Congressional committee reviews conducted between 1972 and 1976 concerning Agency activities.

CATEGORIES OF RECORDS IN THE SYSTEM:

CIA documents that are pertinent to Executive branch commission and Congressional committee reviews of CIA activities.

RECORD SOURCE CATEGORIES:

CIA employees; CIA records; and records of Executive branch commissions and Congressional committees.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to protect against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-31

SYSTEM NAME AND NUMBER:

Inspector General Investigation and Interview Records (CIA-31)

SECURITY CLASSIFICATION:

The classification of records in this system can range from UNCLASSIFIED to TOP SECRET.

SYSTEM LOCATION:

Central Intelligence Agency, Washington, DC 20505.

SYSTEM MANAGER(S):

Inspector General, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records in this system are used by authorized personnel to: ensure process integrity; enable the CIA and the Director of the CIA to carry out their lawful and authorized responsibilities; and maintain a detailed record of the investigative activities of the CIA Office of Inspector General, including investigations of grievances and allegations of misconduct by CIA personnel; to provide information to CIA management regarding personnel matters; and to assist in the evaluation of current and proposed programs, policies, and activities.

CATEGORIES OF INDIVIDUALS COVERED BY THE SYSTEM:

CIA staff and contract employees, personal services independent contractors, industrial contractors, persons with other contractual relationships, or other relationships with the CIA, persons who are interviewed by or provide information to the Office of the Inspector General, persons involved with or knowledgeable about matters being investigated or inspected by the Office of Inspector General, and persons who have filed grievances with the Office of Inspector General or CIA components.

CATEGORIES OF RECORDS IN THE SYSTEM:

Reports of interviews, signed statements, correspondence, reports of investigations, forms, cables, internal CIA memoranda, prior criminal records of individuals covered by the system, and other materials relating to employee grievances and other matters of interest to or inspected by the Office of Inspector General.

RECORD SOURCE CATEGORIES:

CIA records; CIA staff and contract employees, personal services independent contractors, industrial contractors, and military and civilian detailees to CIA; federal, state, and local officials; foreign governments; private citizens, including U.S. citizens and foreign nationals.

ROUTINE USES OF RECORDS MAINTAINED IN THE SYSTEM, INCLUDING CATEGORIES OF USERS AND THE PURPOSES OF SUCH USES:

In addition to the disclosures generally permitted under 5 U.S.C. Section 552a(b), information on additional routine uses is set forth in the “Statement of General Routine Uses for the Central Intelligence Agency,” set out above, which is incorporated herein by reference. In addition to the General Routine Uses incorporated by reference, the following additional routine uses also apply to this SORN:

20. Records in this system are used and disclosed as necessary by members of the Office of Inspector General in the investigation or inspection of matters of interest or concern to the Director of the CIA, Inspector General, and senior Agency officials, including grievances and allegations of misconduct by Agency employees, and to provide information to Agency management regarding personnel matters, and for evaluating current and proposed programs, policies and activities, selected assignments, and requests for awards or promotions.

21. Records in this system that indicate a violation or potential violation of law, whether civil, criminal, or regulatory in nature, and whether arising by general statute or particular program, or by rule, regulation, or order pursuant thereto, or that indicate a violation or potential violation of a contractual obligation, may be disclosed to the appropriate agency, whether federal, state, local, foreign, or international, charged with the responsibility for investigating or prosecuting such violation, enforcing or implementing such statute, rule, regulation, or order, or with enforcing such contract.

22. Records in the system may be disclosed to a federal, state, local, foreign, or international agency, or to an individual or organization, when necessary to elicit information relevant to an Office of Inspector General investigation, inspection, inquiry, decision, or recommendation.

23. Records in the system may be disclosed to a federal, state, local, foreign, or international agency when requested in connection with the assignment, hiring, or retention of an individual, the issuance or revocation of a security clearance, letting of a contract, or any authorized inquiry or investigation to the extent that the information is relevant to the requesting agency's decision on the matter.

24. Records in the system may be disclosed to any federal agency when documents, witness statements, or other information obtained from that agency are used in compiling the system record, or when the record is relevant to the official responsibilities of that agency.

25. Unclassified records in the system, or unclassified portions thereof, including information identifying individuals covered by the system, may be disclosed to the public when the matter under investigation has become public knowledge or the Inspector General determines that such disclosure is necessary to preserve confidence in the integrity of the Inspector General process, or is necessary to demonstrate the accountability of CIA employees, officers, or individuals covered by the system, unless it is determined that release of the specific information in the context of a particular case would constitute an unwarranted invasion of personal privacy.

26. Records in the system pertaining to an employee grievance may be disclosed to any party to that grievance except for records that disclose the identity of a non-party who requested confidentiality and provided a statement during the grievance process.

27. Records in the system may be disclosed in the course of presenting evidence to a court, magistrate, or administrative tribunal, including disclosures in the course of settlement negotiations, or pursuant to statutes or regulations governing the conduct of such proceedings.

28. Records in the system may be disclosed to representatives of the Department of Justice or of any other agency that is responsible for representing Agency interests in connection with judicial, administrative, or other proceedings. Records may also be disclosed to the Department of Justice to the extent necessary to obtain its advice on any matter relevant to an Office of Inspector General investigation.

29. Records in the system may be disclosed to the Senate Select Committee on Intelligence and the House Permanent Select Committee on Intelligence, or other congressional committees, or the staffs thereof, in connection with their oversight and legislative functions.

30. Records in the system may be disclosed to the President's Foreign Intelligence Advisory Board, and the Intelligence Oversight Board, and any successor organizations, when requested by those entities, or when the Inspector General determines that disclosure will assist in the performance of their oversight functions.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secured, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-33 [rescinded]

SORN CIA-33 is RESCINDED and the number held in reserve.

SYSTEM NAME AND NUMBER:

National Intelligence Council Records (CIA-33).

HISTORY:

70 FR 42417, July 22, 2005.

CIA-34

SYSTEM NAME AND NUMBER:

Arms Control Records (CIA-34).

SECURITY CLASSIFICATION:

The classification of records in this system can range from UNCLASSIFIED to TOP SECRET.

SYSTEM LOCATION:

Central Intelligence Agency, Washington, DC 20505.

SYSTEM MANAGER(S):

Director, Weapons and Counter-proliferation Mission Center, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325; Executive Order 13526, 75 FR 705, or its successor.

PURPOSE(S) OF THE SYSTEM:

Records in this system are used by authorized personnel to: ensure process integrity, enable the CIA and the Director of the CIA to carry out their lawful and authorized responsibilities; and provide classified and unclassified information to appropriate CIA and Intelligence Community officials for the conduct of authorized activities, including support to the negotiation and assessment of arms control agreements.

CATEGORIES OF INDIVIDUALS COVERED BY THE SYSTEM:

Individuals who have employment, detailee, liaison, or contractual relationships with the Weapons and Counter-proliferation mission Center (WCPMC), including personal services independent contractors and industrial contractors; individuals who visit, contact, or otherwise participate in the activities of WCPMC.

CATEGORIES OF RECORDS IN THE SYSTEM:

Records in this system include administrative, biographic, and contact information; publicly available information on events of interest to the arms control community; classified reporting on events of interest to the arms control community; and documents identifying classified source documents and their recipients.

RECORD SOURCE CATEGORIES:

Individuals who are the subject of records in this system; U.S. Government employees, agencies, and organizations; publicly available information obtained from the media, libraries, and commercial databases; unclassified and classified reporting and intelligence source documents; and correspondence.

ROUTINE USES OF RECORDS MAINTAINED IN THE SYSTEM, INCLUDING CATEGORIES OF USERS AND THE PURPOSES OF SUCH USES:

Records from this system of records may be disclosed to other U.S. Government organizations in order to facilitate any security, employment, or contractual decisions by those organizations. Records also may be disclosed to other U.S. Government organizations as necessary for the protection of intelligence sources and methods and in support of intelligence operations, analysis, and reporting. In addition to the disclosures generally permitted under 5 U.S.C. Section 552a(b), information on additional routine uses is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-35

SYSTEM NAME AND NUMBER:

Directorate of Science & Technology (DS&T) Private Sector Contact Information (CIA-35).

SECURITY CLASSIFICATION:

The classification of records in this system can range from UNCLASSIFIED to TOP SECRET.

SYSTEM LOCATION:

Central Intelligence Agency, Washington, DC 20505.

SYSTEM MANAGER(S):

Director, DS&T Administrative Resources Center, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records in this system are used by authorized personnel to: ensure process integrity; enable the CIA and the Director of the CIA to carry out their lawful and authorized responsibilities; provide reference information; and facilitate communication by CIA with private sector experts.

CATEGORIES OF INDIVIDUALS COVERED BY THE SYSTEM:

Individuals in the private sector who work or have worked on CIA personal services or industrial contracts; individuals about whom there is publicly-available information identifying a scientific, technical or related expertise of interest to CIA; and CIA staff and contract employees, and other individuals affiliated with CIA who work on CIA projects with private sector experts.

CATEGORIES OF RECORDS IN THE SYSTEM:

Biographic information, including areas of expertise.

RECORD SOURCE CATEGORIES:

Individuals who are the subject of records in the system; and publicly available information obtained from the media, libraries, and commercial databases.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-36

SYSTEM NAME AND NUMBER:

Alumni Communications Records (CIA-36).

SECURITY CLASSIFICATION:

The classification of records in this system can range from UNCLASSIFIED to TOP SECRET.

SYSTEM LOCATION:

Central Intelligence Agency, Washington, DC 20505.

SYSTEM MANAGER(S):

Director, DS&T Investment Program Office, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records in this system are used by authorized personnel to: ensure process integrity; enable the CIA and the Director of the CIA to carry out their lawful and authorized responsibilities; verify the identities of individuals contacting the Port; continue communications with individuals who contact the Port; and record a summary of the conversations and any resulting actions.

CATEGORIES OF INDIVIDUALS COVERED BY THE SYSTEM:

Former CIA employees who voluntarily contact the Alumni Communications Port to offer comments, insights or suggestions.

CATEGORIES OF RECORDS IN THE SYSTEM:

Biographic data (including name, contact information such as address or phone number, and Social Security Number or CIA identifier); and correspondence and memoranda regarding the content of conversations with former employees and any resulting actions.

RECORD SOURCE CATEGORIES:

Individuals who voluntarily contact the Alumni Communications Port; and CIA employees.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to protect against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-37

SYSTEM NAME AND NUMBER:

Directorate of Operations Records (CIA-37).

SECURITY CLASSIFICATION:

The classification of records in this system can range from UNCLASSIFIED to TOP SECRET.

SYSTEM LOCATION:

Central Intelligence Agency, Washington, DC 20505.

SYSTEM MANAGER(S):

Chief, DO Information Management Staff, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records in this system are used by authorized personnel to: ensure process integrity, enable the CIA and the Director of the CIA to carry out their lawful and authorized responsibilities, and maintain a record of the operational activities of the Directorate of Operations of the Central Intelligence Agency.

CATEGORIES OF INDIVIDUALS COVERED BY THE SYSTEM:

Individuals who are of foreign intelligence or foreign counterintelligence interest to the CIA, either because of their actual, apparent, or potential association with foreign intelligence or foreign counterintelligence activities, or because they are of actual or potential use to the CIA.

CATEGORIES OF RECORDS IN THE SYSTEM:

Documents recording the operational activities of the Directorate of Operations (DO) of the Central Intelligence Agency.

RECORD SOURCE CATEGORIES:

Foreign intelligence and counterintelligence sources; U.S. Government agencies; CIA predecessor organizations; publicly available information; and state and local agencies.

ROUTINE USES OF RECORDS MAINTAINED IN THE SYSTEM, INCLUDING CATEGORIES OF USERS AND THE PURPOSES OF SUCH USES:

Records from this system of records may be provided to selected federal agencies, including the Federal Bureau of Investigation, military departments and, through established liaison channels, to selected foreign government agencies, as necessary for the conduct of foreign intelligence and counterintelligence operations by the CIA and other U.S. Government entities authorized to conduct such operations. In addition to the disclosures generally permitted under 5 U.S.C. Section 552a(b), information on additional routine uses is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-39

SYSTEM NAME AND NUMBER:

Customer Relations Records (CIA-39).

SECURITY CLASSIFICATION:

The classification of records in this system can range from UNCLASSIFIED to TOP SECRET.

SYSTEM LOCATION:

Central Intelligence Agency, Washington, DC 20505.

SYSTEM MANAGER(S):

Directorate of Analysis Information Management Officer, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records in this system are used by authorized personnel to: ensure process integrity; enable the CIA and the Director of the CIA to carry out their lawful and authorized responsibilities; maintain dissemination lists for CIA finished intelligence products, in order to ensure proper dissemination of classified and unclassified products; maintain a record of disseminations; maintain a list of topics of interest to particular intelligence customers; and document customer feedback on particular products.

CATEGORIES OF INDIVIDUALS COVERED BY THE SYSTEM:

Current and former intelligence customers including U.S. policymakers, U.S. Government personnel, and other authorized recipients of CIA intelligence products.

CATEGORIES OF RECORDS IN THE SYSTEM:

Biographic information including names, addresses, contact information, security clearances and access approvals, and subjects of intelligence interest to individuals covered by this system of records; documents containing comments and feedback from individuals covered by this system of records.

RECORD SOURCE CATEGORIES:

Individuals who are the subjects of records in this system; CIA personnel; and other U.S. Government personnel.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, position title, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-40

SYSTEM NAME AND NUMBER:

Research System Records (CIA-40).

SECURITY CLASSIFICATION:

The classification of records in this system can range from UNCLASSIFIED to TOP SECRET.

SYSTEM LOCATION:

Central Intelligence Agency, Washington, DC 20505.

SYSTEM MANAGER(S):

Directorate of Analysis Information Management Officer, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records in this system are used by authorized personnel to: ensure process integrity; enable the CIA and the Director of the CIA to carry out their lawful and authorized responsibilities; provide a repository of classified and unclassified information on topics of foreign intelligence and counterintelligence interest to the CIA; assist the CIA's Directorate of Analysis to fulfill its mission of providing timely, accurate, and objective intelligence analysis on the full range of national security threats and foreign policy issues facing the United States; and provide a reference file for publicly available publications pertaining to intelligence.

CATEGORIES OF INDIVIDUALS COVERED BY THE SYSTEM:

Individuals of foreign intelligence or counterintelligence interest to the CIA, including individuals associated with international terrorism, international organized crime, or international narcotics trafficking activities; and individuals who have written on the general topic of intelligence.

CATEGORIES OF RECORDS IN THE SYSTEM:

Classified intelligence reporting, including reports from other U.S. Government agencies and foreign government information; and publicly available information from the media, libraries, and commercial databases.

RECORD SOURCE CATEGORIES:

CIA staff and contract employees, personal services independent contractors, and industrial contractors; U.S. Government agencies; publicly available information from the media, libraries, and commercial databases; and foreign intelligence and counterintelligence sources.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-41

SYSTEM NAME AND NUMBER:

Intelligence Analysis Records (CIA-41).

SECURITY CLASSIFICATION:

The classification of records in this system can range from UNCLASSIFIED to TOP SECRET.

SYSTEM LOCATION:

Central Intelligence Agency, Washington, DC 20505.

SYSTEM MANAGER(S):

Directorate of Analysis Information Management Officer, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; Executive Order 12333, as amended, 73 FR 45325.

PURPOSE(S) OF THE SYSTEM:

Records in this system are used by authorized personnel to: ensure process integrity, enable the CIA and the Director of the CIA to carry out their lawful and authorized responsibilities; and assist the CIA's Directorate of Analysis to fulfill its mission of providing timely, accurate, and objective intelligence analysis on the full range of national security threats and foreign policy issues facing the United States, including key foreign countries, regional conflicts, and issues that transcend national boundaries such as terrorism, weapons proliferation, and narcotics trafficking.

CATEGORIES OF INDIVIDUALS COVERED BY THE SYSTEM:

Individuals of foreign intelligence or counterintelligence interest to the CIA, including individuals associated with international terrorism, international organized crime, or international narcotics trafficking activities.

CATEGORIES OF RECORDS IN THE SYSTEM:

Intelligence reports and other information that supports the analytic mission of the CIA's Directorate of Analysis.

RECORD SOURCE CATEGORIES:

CIA staff and contract employees, personal services independent contractors, and industrial contractors; U.S. Government agencies; publicly available information from the media, libraries, and commercial databases; and foreign intelligence and counterintelligence sources.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by CIA personnel.

POLICIES AND PRACTICES FOR RETENTION AND DISPOSAL OF RECORDS:

All records are maintained and disposed of in accordance with applicable Records Control Schedules issued or approved by the National Archives and Records Administration.

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

70 FR 42417, July 22, 2005.

CIA-42

SYSTEM NAME AND NUMBER:

Insider Threat Program Records (CIA-42).

SECURITY CLASSIFICATION:

The classification of records in this system can range from UNCLASSIFIED to TOP SECRET.

SYSTEM LOCATION:

Central Intelligence Agency, Washington, DC 20505.

SYSTEM MANAGER(S):

Chief, Insider Threat Program, Central Intelligence Agency, Washington, DC 20505.

AUTHORITY FOR MAINTENANCE OF THE SYSTEM:

The National Security Act of 1947, as amended, 50 U.S.C. 3036 et seq.; the Central Intelligence Agency Act of 1949, as amended, 50 U.S.C. 3501 et seq.; the Counterintelligence Enhancement Act of 2002, Title IX of the Intelligence Authorization Act, FY03, Public Law 107-306, sec. 901 et seq.; Executive Order 12333, as amended, 73 FR 45325; Executive Order 10450, 18 FR 2489; Executive Order 12968, 60 FR 40245, as amended by Executive Order 13467, 73 FR 38103; Executive Order 13526, 75 FR 705, or its successor; Executive Order 13587, 76 FR 63811; Presidential Memorandum, National Insider Threat Policy and Minimum Standards for Executive Branch Insider Threat Programs (Nov. 21, 2012).

PURPOSE(S) OF THE SYSTEM:

Records in this system are used by authorized personnel to: ensure process integrity; enable the CIA and the Director of the CIA to carry out their lawful and authorized responsibilities to detect and deter insider threats who may cause damage to national security; provide a data source for statistical and pattern analysis to support resource planning and business analytics; monitor, detect, deter, and/or mitigate insider threats to include accessing, gathering, integrating, assessing, and sharing information and data derived from offices across the organization for centralized analysis, reporting, and response; monitor user activity on classified and other computer networks controlled by the CIA; evaluate personnel security information; establish procedures for insider threat response actions, such as inquiries clarifying or resolving insider threat matters; and educate personnel on the subject of insider threat in order to identify and prevent vulnerabilities that may do harm to the national security of the United States through espionage, terrorism, unauthorized disclosure of national security information, and loss or degradation of Agency resources or capabilities.

CATEGORIES OF INDIVIDUALS COVERED BY THE SYSTEM:

Current and former CIA staff, including individuals who may have access to CIA systems; contract employees; military and civilian personnel detailed to the CIA; witnesses who provide statements or information related to insider threat investigations; and other individuals who hold a security clearance, who have or had authorized access to CIA buildings, facilities, and infrastructures who may have exhibited actual, probable or conceivable indications of insider threat behavior or activities.

CATEGORIES OF RECORDS IN THE SYSTEM:

Information or data derived from such information that is necessary to identify, analyze, or resolve insider threat matters, including but not limited to:

All relevant foreign intelligence, counterintelligence, and security databases and files, including personnel security files, polygraph examination reports, facility access records, security violation files, travel records, foreign contact reports, and financial disclosure filings;

All relevant unclassified and classified network information generated by information assurance elements, including, but not limited to: personnel usernames and aliases, levels of network access, audit data, unauthorized use of removable media, print logs, and other data needed for clarification or resolution of an insider threat concern; and

All relevant human resources databases and files including personnel files, payroll and voucher files, outside work and activities requests, disciplinary files, personal contact records, as may be necessary for resolving or clarifying insider threat matters, and analysis pertaining to matters, behaviors or conduct indicating that a particular individual credibly poses an insider threat to the CIA.

RECORD SOURCE CATEGORIES:

Information may be provided by individuals covered by this system; CIA internally derived information, foreign intelligence and counterintelligence sources; other U.S. Government and foreign government entities; state, local, and private entities; and publicly available information.

ROUTINE USES OF RECORDS MAINTAINED IN THE SYSTEM, INCLUDING CATEGORIES OF USERS AND THE PURPOSES OF SUCH USES:

In addition to the disclosures generally permitted under 5 U.S.C. Section 552a(b), this information is set forth in the “Statement of General Routine Uses for the Central Intelligence Agency,” set out above, which is incorporated herein by reference. In addition to the General Routine Uses incorporated by reference, the following additional routine use also applies to this SORN:

20. Disclosure to the ODNI and other elements of the Intelligence Community (IC) as necessary to conduct audit or oversight operations, meet applicable reporting requirements and anticipate, prevent or detect insider threat within the IC.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, social security number, or other unique personal identifier by automated or hand search based on extant indices and automated capabilities utilized in the normal course of business. Under applicable law and regulations, all searches of this system of records will be performed in CIA offices by Agency personnel.

POLICIES AND PRACTICES FOR RETENTION AND DISPOSAL OF RECORDS:

All records are maintained and disposed of in accordance with applicable Records Control Schedules issued or approved by the National Archives and Records Administration (NARA).

ADMINISTRATIVE, TECHNICAL, AND PHYSICAL SAFEGUARDS:

Records are maintained in secure, restricted areas and are accessed only by personnel who have a need for the records in the performance of their official duties and have been authorized for such access. Electronic authorization and authentication access controls are required to prevent against unauthorized access and disclosure.

RECORD ACCESS PROCEDURES:

Requests from individuals should be addressed as indicated in the Notification Procedures section below. Regulations for access to individual records or for appealing an initial determination by CIA concerning the access to records are published in the Federal Register (32 CFR 1901.11-.45).

CONTESTING RECORD PROCEDURES:

Requests from individuals to correct or amend records should be addressed as indicated in the Notification Procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

None.

CIA-43

SYSTEM NAME AND NUMBER:

Environmental Safety Records (CIA-43).

SECURITY CLASSIFICATION:

The classification of records in this system can range from UNCLASSIFIED to TOP SECRET.

SYSTEM LOCATION:

Central Intelligence Agency, Washington, DC 20505.

SYSTEM MANAGER(S):

Director, Office of Facilities, Central Intelligence Agency, Washington, DC 20505.

AUTHORITY FOR MAINTENANCE OF THE SYSTEM:

The National Security Act of 1947, as amended, 50 U.S.C. 403 et seq.; the Central Intelligence Agency Act of 1949, as amended, 50 U.S.C. 403a et seq.; the Occupational Safety and Health Act, as amended, 29 U.S.C. 668; Executive Order 12196, 45 FR 12769; Executive Order 12333, as amended, 73 FR 45325.

PURPOSE(S) OF THE SYSTEM:

Records in this system are used by authorized personnel to: ensure process integrity; provide a data source for statistical and pattern analysis to support resource planning and business analytics; enable the CIA and the Director of the CIA to carry out their lawful and authorized responsibilities; document and track incident, injury, and illness on CIA-owned or managed property and facilities; track the environmental safety and health status of CIA employees, components, sites, and operations to identify causal trends and develop policies and standards; and address safety issues or concerns.

CATEGORIES OF INDIVIDUALS COVERED BY THE SYSTEM:

CIA staff and contract employees; military and civilian employees detailed to CIA; and other non-Agency employees including vendors, visitors and other affected individuals, as applicable, involved in safety incidents resulting in injuries and illness.

CATEGORIES OF RECORDS IN THE SYSTEM:

Reports of incidents, injuries, and illnesses; materials relating to environmental health and safety issues; records of training provided; biographic and limited medical information on individuals involved in or affected by reported incidents, including information on supervisors, witnesses, and medical personnel who provided services to the categories of individuals listed above.

RECORD SOURCE CATEGORIES:

Information may be provided by CIA employees and other individuals involved in incident, injury, and illness reporting.

ROUTINE USES OF RECORDS MAINTAINED IN THE SYSTEM, INCLUDING CATEGORIES OF USERS AND PURPOSES OF SUCH USES:

In addition to the disclosures generally permitted under 5 U.S.C. Section 552a(b), this information is set forth in the “Statement of General Routine Uses for the Central Intelligence Agency,” set out above, which is incorporated herein by reference. In addition to the General Routine Uses incorporated by reference, the following additional routine use also applies to this SORN:

20. Disclosure to the Office of Personnel Management in the case of an employee who applies for medical disability, and to the Department of Labor in the case of an employee who applies for Worker's Compensation benefits.

POLICIES AND PRACTICES FOR STORAGE OF RECORDS:

Paper and other hard-copy records are stored in secured areas within the CIA or in CIA-controlled facilities. Electronic records are stored in secure file-servers located within CIA-controlled facilities.

POLICIES AND PRACTICES FOR RETRIEVAL OF RECORDS:

Records in this system may be retrieved by name, chart number, social security number, CIA employee number, or other unique personal identifier by automated or hand search based on extant indices and automated capabilities utilized in the normal course of business. Under applicable law and regulations, all searches of this system of records will be performed in CIA offices by Agency personnel.

POLICIES AND PRACTICES FOR RETENTION AND DISPOSAL OF RECORDS:

All records are maintained and disposed of in accordance with applicable Records Control Schedules issued or approved by the National Archives and Records Administration (NARA).

ADMINISTRATIVE, TECHNICAL, AND PHYSICAL SAFEGUARDS:

Records are maintained in secure, restricted areas and are accessed only by personnel who have a need for the records in the performance of their official duties and have been authorized for such access. Electronic authorization and authentication access controls are required to prevent against unauthorized access, use, and disclosure.

RECORD ACCESS PROCEDURES:

Requests from individuals should be addressed as indicated in the notification procedures section below. Regulations for access to individual records or for appealing an initial determination by CIA concerning the access to records are published in the Federal Register (32 CFR 1901.11-.45).

CONTESTING RECORD PROCEDURES:

Requests from individuals to correct or amend records should be addressed as indicated in the notification procedures section below. CIA's regulations regarding requests for amendments to, or disputing the contents of, individual records or for appealing an initial determination by CIA concerning these matters are published in the Federal Register (32 CFR 1901.21-.32, 32 CFR 1901.42).

NOTIFICATION PROCEDURES:

Individuals seeking to learn if this system of records contains information about them should direct their inquiries to: Information and Privacy Coordinator, Central Intelligence Agency, Washington, DC 20505. Identification requirements are specified in the CIA rules published in the Federal Register (32 CFR 1901.12-.14). Individuals must comply with these rules in order for their request to be processed.

EXEMPTIONS PROMULGATED FOR THE SYSTEM:

Certain records contained within this system of records may be exempted from certain provisions of the Privacy Act, 5 U.S.C. 552a, pursuant to 5 U.S.C. 552a(d)(5), (j)(1), and (k).

HISTORY:

None.

[FR Doc. 2022-24981 Filed 11-25-22; 8:45 am]

BILLING CODE 6310-02-P